DEPARTMENT OF TRANSPORTATION

Coast Guard

[USCG-2000-7834]

Waiver Application; Tank Vessel; Reduction of Gross Tonnage

AGENCY: Coast Guard, DOT.

ACTION: Notice; request for comments.

SUMMARY: The Coast Guard is requesting comments on the Marine Chemical Navigation Corporation's waiver application to reduce the gross tonnage of the tank ship MARINE CHEMIST, Official Number 529399. Approval of this waiver application will change the vessel's double hull compliance date. The company has met all the requirements for issuance of a waiver and this document provides the required public notice and sixty-day comment period concerning the application. The Coast Guard will consider all comments received during the comment period before taking final action on the Marine Chemical Navigation Corporation's application.

DATES: Comments and related material must reach the Docket Management Facility on or before October 24, 2000.

ADDRESSES: To make sure your comments and related material are not entered more than once in the docket, please submit them by only one of the following means:

(1) By mail to the Docket Management Facility, (USCG-2000-7834), U.S. Department of Transportation, room PL-401, 400 Seventh Street SW., Washington, DC 20590-0001.

(2) By hand delivery to room PL-401 on the Plaza level of the Nassif Building, 400 Seventh Street SW., Washington, DC, between 9 a.m. and 5 p.m., Monday through Friday, except Federal holidays. The telephone number is 202-366-9329.

(3) By fax to Docket Management Facility at 202-493-2251.

(4) Electronically through the Web Site for the Docket Management System at http://dms.dot.gov.

The Docket Management Facility maintains the public docket for this notice. Comments and materials received from the public, as well as documents mentioned in this notice as being available in the docket, will become part of this docket and will be available for inspection or copying at room PL-401 on the Plaza level of the Nassif Building, 400 Seventh Street SW., Washington DC, between 9 a.m. and 5 p.m., Monday through Friday, except Federal holidays. You may also find this docket on the Internet at http://dms.dot.gov.

FOR FURTHER INFORMATION CONTACT: For questions on this notice, contact Mr. Bob Gauvin, Project Manager, Office of Operating and Environmental Standards, Commandant (G-MSO), Coast Guard, telephone 202-267-1053. For questions on viewing, or submitting material to the docket, call Ms. Dorothy Beard, Chief, Dockets, Department of Transportation, telephone 202-366-9329.

SUPPLEMENTARY INFORMATION:

Request for Comments

We encourage you to participate in this request for comments by submitting written data, views, or arguments concerning the waiver application. If you do so, please include your name and address, identify the docket number (USCG-2000-7834), indicate the specific section of this document to which each comment applies, and give the reason for each comment. You may submit your comments and material by mail, hand, fax, or electronic means to the Docket Management Facility at the address under ADDRESSES; but please submit comments and material by only one means. If you submit them by mail or hand delivery, submit them in an unbound format, no larger than 8½ by 11 inches, suitable for copying and electronic filing. If you submit them by mail and would like to know they reached the Facility, please enclose a stamped, self-addressed postcard or envelope. We will consider all comments and material received during the comment period.

Public Meeting

We do not now plan to hold a public meeting. But, you may request one by submitting a request to the Docket Management Facility at the address under ADDRESSES explaining why one would be beneficial. If we determine that one would be helpful, we will announce the time and place in a later notice in the Federal Register.

Background and Purpose

The Oil Pollution Act of 1990 (OPA 90) requires most single hull tank vessels carrying oil in bulk as cargo or cargo residue to either convert to double hull configuration or to stop operating in U.S. waters by the dates specified in the statute. These dates, in 46 U.S.C. 3703a, are based on the vessel's age, gross tonnage, and hull configuration. In general, the latest operational date for single hull tank vessels is January 1, 2010, and for tank vessels with double sides or double bottoms is January 1, 2015.

Before July 1, 1997, a tank vessel owner could extend a single hull tank vessel's operational life by converting cargo tanks into voids or segregated ballast tanks and reducing its gross tonnage. If the reduction in gross tonnage placed the vessel under a different subsection of § 3703a, the vessel then had a later date for double hull compliance.

In 1997, Pub. L. 105-85 added a new subsection (e) to 46 U.S.C. 3703a mandating that after July 1, 1997, a tank vessel's gross tonnage could not be altered for the purpose of determining its double hull compliance date without a waiver from the Secretary of Transportation. The new provision required that all waiver applications be received by January 1, 1998. We received requests from six U.S., and one foreign tank vessel owners for conversions of fourteen tankships, two integrated tug-barge units (ITBs), and fifteen barges. On January 6, 1998, the Secretary of Transportation delegated his authority to the Commandant to act on these waiver requests.

In February 1998, we contracted a study entitled An Investigation Into the Re-Admeasurement of Single Hull Tankships and Barges By Means of Protectively Located Segregated Ballast Tanks. The study determined which conversions of cargo tanks into protectively-located segregated ballast tanks (PL/SBT) would result in a significant reduction in oil outflow when specific parameters are met. The study, looking at three sizes of tankships and tank barges, evaluated the risk of oil discharge and used the probabilistic oil outflow applications we had previously established under the OPA 90 requirements of section 3703a to evaluate new tank vessel hull designs. The study found that in order for tank vessels to significantly reduce the risk of oil discharge, enough cargo tanks must be converted to PL/SBT to meet an equivalent oil spill (EOS) number of at least 15% less than the vessel's existing outflow signature.

We provided a copy of the study and the conversion parameters to each waiver applicant so they could submit their plans for modifications and complete the supporting materials for their waiver applications. A copy of the Coast Guard study is available for review in the public docket at the address under ADDRESSES.

Requirements for Issuance of a Waiver

As required by § 3703a, a completed waiver application package consists of—

• An application received by January 1, 1998;

• Reliable evidence that the tank vessel had not undergone, nor contracted to undergo, alterations that reduce the gross tonnage of the vessel before July 1, 1997; and

• Supplementary materials that demonstrate the proposed alterations to the tank vessel will result in a significant reduction in the risk of a discharge of oil.

We must then determine if both—

• The owner of the tank vessel has entered into a binding agreement to alter the tank vessel in a shipyard in the United States to reduce the gross tonnage of the tank vessel by converting a portion of the cargo tanks of the vessel into PL/SBT; and

• The conversion will result in a significant reduction in the risk of a discharge of oil.

Section 3703a requires that we must then provide public notice and a sixty-day comment period on each application before we can issue a waiver.

Alterations under this waiver must be completed by the later of either July 1, 1999, or the date of the vessel's next special hull survey after November 18, 1997.

Application for the MARINE CHEMIST

Our records show that Marine Chemical Navigation Corporation (MCNC) tank ship MARINE CHEMIST, Official Number 529399, is a U.S. certificated single hull oil tank ship which was built in 1970. This tank ship has a gross tonnage of 20,239. According to 46 U.S.C. 3703a(c)(3), the tank ship's double hull compliance date is January 1, 2001.

With an approved waiver, MCNC will reduce its vessel's gross tonnage to an estimated 14,959 gross tons (GT). Its new double hull compliance date under § 3703a(e) would be January 1, 2004.

The application from MCNC meets the requirements for a waiver under § 3703a(e) by having provided the following:

• Waiver application for the tank ship MARINE CHEMIST was received on December 22, 1997;

• “Statement of Attestation” that the MARINE CHEMIST's gross tonnage was not reduced by a contract or shipyard alteration on or before July 1, 1997;

• Copy of its repair contract with Bludworth-Bond Shipyard, Inc, of Houston, Texas, to complete the modifications to the MARINE CHEMIST to convert the number 1A through 1D, 2, 4, 5 and 7 port and starboard cargo tanks into ballast tanks; and

• Appropriate supplementary materials.

Based on the supplementary materials provided by MCNC for the tank ship MARINE CHEMIST, we have determined the following:

• MCNC can complete the tank ship modifications before November 30, 2000, the date of the vessel's next classification society special survey.

• MCNC's probabilistic oil outflow signature of the proposed vessel modifications will reduce the EOS by 26.7%.

MCNC's complete waiver application has been placed in the docket for public review at the address under ADDRESSES. We will consider all comments received during the comment period before taking final action on the MCNC waiver application for the modification and reduction of tonnage to the tank vessel MARINE CHEMIST.

Dated: August 22, 2000.
R. C. North,
Rear Admiral, U.S. Coast Guard, Assistant Commandant for Marine Safety and Environmental Protection.

[FR Doc. 00-21825 Filed 8-23-00; 1:05 pm]

BILLING CODE 4910-15-U